DEPARTMENT OF TRANSPORTATION

Federal Aviation Administration

14 CFR Part 39

[Docket No. FAA-2004-19766; Directorate Identifier 2002-NM-161-AD; Amendment 39-14057; AD 2005-08-05]

RIN 2120-AA64

Airworthiness Directives; BAE Systems (Operations) Limited (Jetstream) Model 4101 Airplanes

AGENCY: Federal Aviation Administration (FAA), Department of Transportation (DOT).

ACTION: Final rule.

SUMMARY: The FAA is adopting a new airworthiness directive (AD) for all BAE Systems (Operations) Limited (Jetstream) Model 4101 airplanes. This AD requires replacing the aileron trim chain with a new, improved aileron trim chain, and modifying the installation of the aileron trim chain. This AD is prompted by a report that the aileron trim cables were connected incorrectly on a correctly installed aileron trim chain. We are issuing this AD to prevent incorrect connection of the aileron trim cables, which could result in failure of the aileron trim system and consequent reduced controllability of the airplane.

DATES: This AD becomes effective May 23, 2005.

The incorporation by reference of a certain publication listed in the AD is approved by the Director of the Federal Register as of May 23, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19766; the directorate identifier for this docket is 2002-NM-161-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: The FAA proposed to amend 14 CFR part 39 with an AD for all BAE Systems (Operations) Limited (Jetstream) Model 4101 airplanes. That action, published in the Federal Register on December 8, 2004 (69 FR 70938), proposed to require replacing the aileron trim chain with a new, improved aileron trim chain, and modifying the installation of the aileron trim chain.

Comments

We provided the public the opportunity to participate in the development of this AD. We have considered the comments that have been submitted on the proposed AD.

Support for the Proposed AD

One commenter supports the proposed AD.

Request To Revise Compliance Time

One commenter, the airplane manufacturer, requests that we revise the proposed AD to require installing modified aileron trim chains at the next time the aileron trim circuit is broken down, but not later than 30 months after the effective date of the AD. The proposed AD requires compliance within 30 months after the effective date of the AD. The commenter states that disassembly of the aileron trim circuit introduces the risk of incorrect installation (cross-connection) during re-assembly. This is the reason why British airworthiness directive 006-11-2001 requires compliance “not later than the next aileron trim circuit break down, or by 31 March 2005, whichever is the sooner.”

We do not concur with the commenter's request. In developing a compliance time for this AD, we considered the urgency associated with the subject unsafe condition, the manufacturer's recommendation, and the practical aspect of accomplishing the required modification within a period of time that corresponds to the normal scheduled maintenance for most affected operators. As we explained in the proposed AD, a compliance time of 30 months after the effective date of the AD is comparable in length to the compliance time in the British airworthiness directive, will allow the majority of operators sufficient time to accomplish the proposed action during a regularly scheduled maintenance visit, and will not compromise safety. We have not changed this AD in this regard.

Conclusion

We have carefully reviewed the available data, including the comments that have been submitted, and determined that air safety and the public interest require adopting the AD as proposed.

Costs of Compliance

This AD will affect about 57 airplanes of U.S. registry. The required actions will take about 36 work hours per airplane, at an average labor rate of $65 per work hour. Required parts will cost about $2,500 per airplane. Based on these figures, the estimated cost of the AD for U.S. operators is $275,880, or $4,840 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-08-05 BAE Systems (Operations) Limited (Formerly British Aerospace Regional Aircraft): Amendment 39-14057. Docket No. FAA-2004-19766; Directorate Identifier 2002-NM-161-AD.

Effective Date

(a) This AD becomes effective May 23, 2005.

Affected ADs

(b) None.

Applicability

(c) This AD applies to all BAE Systems (Operations) Limited (Jetstream) Model 4101 airplanes, certificated in any category.

Unsafe Condition

(d) This AD was prompted by a report that the aileron trim cables can be connected incorrectly on a correctly installed aileron trim chain. We are issuing this AD to prevent incorrect connection of the aileron trim cables, which could result in failure of the aileron trim system and consequent reduced controllability of the airplane.

Compliance

(e) You are responsible for having the actions required by this AD performed within the compliance times specified, unless the actions have already been done.

Replacement of Aileron Trim Chain and Modification of Installation

(f) Within 30 months after the effective date of this AD: Replace the aileron trim chain, part number (P/N) 14127003-401, with a new, improved aileron trim chain, P/N 14127003-403; and modify the installation of the aileron trim chain; according to the Accomplishment Instructions of BAE Systems (Operations) Limited Service Bulletin J41-27-061, Revision 1, dated July 12, 2002.

Actions Accomplished According to Previous Issue of Service Bulletin

(g) Replacements and modifications accomplished before the effective date of this AD according to BAE Systems (Operations) Limited Service Bulletin J41-27-061, dated November 7, 2001, are considered acceptable for compliance with the corresponding actions specified in this AD.

No Reporting Requirement

(h) Although the service bulletin referenced in this AD specifies to report compliance information to the manufacturer, this AD does not include that requirement.

Alternative Methods of Compliance (AMOCs)

(i) The Manager, International Branch, ANM-116, Transport Airplane Directorate, FAA, has the authority to approve AMOCs for this AD, if requested in accordance with the procedures found in 14 CFR 39.19.

Related Information

(j) British airworthiness directive 006-11-2001 also addresses the subject of this AD.

Material Incorporated by Reference

(k) You must use BAE Systems (Operations) Limited Service Bulletin J41-27-061, Revision 1, dated July 12, 2002, to perform the actions that are required by this AD, unless the AD specifies otherwise. The Director of the Federal Register approves the incorporation by reference of this document in accordance with 5 U.S.C. 552(a) and 1 CFR part 51. To get copies of the service information, go to British Aerospace Regional Aircraft American Support, 13850 Mclearen Road, Herndon, Virginia 20171. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_ register/code_of_federal_regulations/ ibr_locations.html. You may view the AD docket at the Docket Management Facility, U.S. Department of Transportation, 400 Seventh Street SW, room PL-401, Nassif Building, Washington, DC.

Issued in Renton, Washington, on April 5, 2005.
Kalene C. Yanamura,
Acting Manager, Transport Airplane Directorate, Aircraft Certification Service.

[FR Doc. 05-7482 Filed 4-15-05; 8:45 am]

BILLING CODE 4910-13-P